NATIONAL SCIENCE FOUNDATION

Sunshine Act Meetings; National Science Board

The National Science Board, pursuant to NSF regulations (45 CFR part 614), the National Science Foundation Act, as amended, (42 U.S.C. 1862n-5), and the Government in the Sunshine Act (5 U.S.C. 552b), hereby gives notice of the addition of an agenda item in the plenary open session of the National Science Board meetings on May 6, 2016, as shown below. The original notice appeared in the Federal Register on Friday, April 29, 2016 at 81 FR 25721-22.

AMENDED AGENDA:

Plenary Board

Open session: 1:00-2:30 p.m.

• Approval of open plenary minutes for February, 2016

• NSB Chair's opening remarks

• Introduction of the NSF “LIGO Team”

• NSF Director's remarks

• Review and approval of annual Executive Committee report

• OIG Semiannual report (ADDED)

• Open committee reports

• Discharge NPP

• Presentations to outgoing Board members

• NSB Chair's closing remarks

UPDATES: Please refer to the National Science Board Web site for additional information. Meeting information and schedule updates (time, place, subject matter or status of meeting) may be found at http://www.nsf.gov/nsb/meetings/notices.jsp.

AGENCY CONTACT: Ron Campbell, jrcampbe@nsf.gov, 703-292-7000.

Dated: May 5, 2016.
Suzanne Plimpton,
Management Analyst, National Science Foundation.

[FR Doc. 2016-10991 Filed 5-5-16; 4:15 pm]

BILLING CODE 7555-01-P